DEPARTMENT OF AGRICULTURE

Grain Inspection, Packers and Stockyards Administration

Designation in the Northeast Texas Region

AGENCY: Grain Inspection, Packers and Stockyards Administration, USDA.

ACTION: Notice.

SUMMARY: Central Illinois Grain Inspection, Inc. (Central Illinois), d/b/a Lone Star Grain Inspection in Texas, has requested that the Grain Inspection, Packers and Stockyards Administration (GIPSA) amend its designation to remove the northeast Texas region from its assigned geographic area. GIPSA is amending Central Illinois' designation and is designating Gulf Country Inspection Service, Inc. (Gulf Country) to provide official services in the northeast Texas area.

DATES: Effective Date: June 23, 2009.

ADDRESSES: USDA, GIPSA, Compliance Division, STOP 3604, Room 1647-S, 1400 Independence Avenue, SW., Washington, DC 20250-3604.

FOR FURTHER INFORMATION CONTACT: Thomas C. O'Connor at 202-720-8262 or e-mail Thomas.C.OConnor@usda.gov.

SUPPLEMENTARY INFORMATION: Section 7(f)(1) of the United States Grain Standards Act (USGSA or Act) (7 U.S.C. 71-87k) authorizes GIPSA's Administrator to designate a qualified applicant to provide official services in a specified area after determining that the applicant is better able than any other applicant to provide such official services.

Under section 7(g)(1) of the USGSA, designations of official agencies are effective for a period not longer than 3 years unless terminated by the Secretary, but may be renewed according to the criteria and procedures prescribed in section 7(f) of the Act.

Central Illinois was selected to perform official services in the northeast Texas area effective April 20, 2009 (see 74 FR 17940). Gulf Country also applied for designation in that action. However, on May 18, 2009, Central Illinois requested that its designation be amended to remove the northeast Texas area from its geographic area, the same geographic area that was subject to the previous designation action. Given these circumstances GIPSA, again, evaluated all available information regarding the designation criteria in Section 7(f)(1) of the USGSA (7 U.S.C. 79(f)(1)) and determined that Gulf Country is able to provide official services in the geographic area specified below, effective June 23, 2009. This designation terminates December 31, 2010. The designation of Central Illinois is amended consistent with this action.

Pursuant to Section 7(f)(2) of the Act, the following geographic area in the State of Texas is assigned to Gulf Country:

• Bounded on the North by the northern Young, Jack, Montague, Cooke, Grayson, Fannin, Lamar, Red River, Morris, and Marion County lines east to the Texas State line;

• Bounded on the East by the eastern Texas State line south to the southern Shelby County line;

• Bounded on the South by the southern Shelby, Rusk, Smith, Henderson, Navarro, Hill, Bosque, Hamilton, and Mills County lines west to the western Mills county line; and

• Bounded on the West by the western Mills, Comanche, Eastland, Stephens, and Young County lines north to the northern Young County line.

Interested persons may obtain official services by contacting Gulf Country via mail at 6852 Talbot Parkway, Dallas, TX 75232 or phone at 214-500-5212.

Authority: 7 U.S.C. 71-87k.

J. Dudley Butler,
Administrator, Grain Inspection, Packers and Stockyards Administrator.

[FR Doc. E9-14650 Filed 6-22-09; 8:45 am]

BILLING CODE 3410-KD-P